DEPARTMENT OF JUSTICE

8 CFR Ch. V

21 CFR Ch. I

27 CFR Ch. II

28 CFR Ch. I, V

Regulatory Agenda

AGENCY: Department of Justice.

ACTION: Semiannual regulatory agenda.

SUMMARY: The Department of Justice is publishing its spring 2017 regulatory agenda pursuant to Executive Order 12866, “Regulatory Planning and Review,” 58 FR 51735, and the Regulatory Flexibility Act, 5 U.S.C. 601 to 612 (1988).

FOR FURTHER INFORMATION CONTACT: Robert Hinchman, Senior Counsel, Office of Legal Policy, Department of Justice, Room 4252, 950 Pennsylvania Avenue NW., Washington, DC 20530, (202) 514-8059.

SUPPLEMENTARY INFORMATION: Beginning with the fall 2007 edition, the Internet has been the basic means for disseminating the Unified Agenda. The complete Unified Agenda will be available online at www.reginfo.gov in a format that offers users a greatly enhanced ability to obtain information from the Agenda database.

Because publication in the Federal Register is mandated for the regulatory flexibility agendas required by the Regulatory Flexibility Act (5 U.S.C. 602), the Department of Justice's printed agenda entries include only:

(1) Rules that are in the Agency's regulatory flexibility agenda, in accordance with the Regulatory Flexibility Act, because they are likely to have a significant economic impact on a substantial number of small entities; and

(2) any rules that the Agency has identified for periodic review under section 610 of the Regulatory Flexibility Act.

Printing of these entries is limited to fields that contain information required by the Regulatory Flexibility Act's Agenda requirements. Additional information on these entries is available in the Unified Agenda published on the Internet.

Dated: March 31, 2017.
Ryan Newman,
Acting Assistant Attorney General, Office of Legal Policy.

Civil Rights Division—Completed Actions
Sequence No. | Title | Regulation Identifier No.
159 | Nondiscrimination on the Basis of Disability; Movie Captioning and Audio Description | 1190-AA63

DEPARTMENT OF JUSTICE (DOJ)

Civil Rights Division (CRT)

Completed Actions

159. Nondiscrimination on the Basis of Disability; Movie Captioning and Audio Description

Legal Authority: 42 U.S.C. 12101, et seq.

Abstract: Following its advance notice of proposed rulemaking published on July 26, 2010, and the notice of proposed rulemaking published on August 1, 2014, the Department published a rule addressing the requirements for captioning and video description of movies exhibited in movie theatres under title III of the Americans with Disabilities Act of 1990 (ADA). Title III prohibits discrimination on the basis of disability in the activities of places of public accommodation (private entities whose operations affect commerce and that fall into one of twelve categories listed in the ADA). 42 U.S.C. 12181-12189. Title III makes it unlawful for places of public accommodation, such as movie theaters, to discriminate against individuals with disabilities in the full and equal enjoyment of the goods, services, facilities, privileges, advantages, or accommodations of a place of public accommodation (42 U.S.C. 12182[a]). Moreover, title III prohibits places of public accommodation from affording an unequal or lesser service to individuals or classes of individuals with disabilities than is offered to other individuals (42 U.S.C. 12182(b)(1)(A)(ii)). Title III requires places of public accommodation to take “such steps as may be necessary to ensure that no individual with a disability is excluded, denied services, segregated or otherwise treated differently because of the absence of auxiliary aids and services, such as captioning and video description, unless the entity can demonstrate that taking such steps would fundamentally alter the nature of the good, service, facility, privilege, advantage, or accommodation being offered or would result in an undue burden,” (42 U.S.C. 12182(b)(2)(A)(iii)).

Completed:

Reason | Date | FR Cite
Final Action | 12/02/16 | 81 FR 87348
Final Action Effective | 01/17/17 |

Regulatory Flexibility Analysis Required: Yes.

Agency Contact: Anne Raish, Phone: 800 514-0301.

RIN: 1190-AA63

[FR Doc. 2017-16934 Filed 8-23-17; 8:45 am]

BILLING CODE 4410-BP-P